SECURITIES AND EXCHANGE COMMISSION

[File No. 500-1]

Order of Suspension of Trading; In the Matter of American Power Corp. and Locan, Inc.

October 30, 2015.

It appears to the Securities and Exchange Commission that there is a lack of current and accurate information concerning the securities of American Power Corp. (CIK No. 1436174), a revoked Nevada corporation with its principal place of business listed as Denver, Colorado, with stock quoted on OTC Link (previously, “Pink Sheets”) operated by OTC Markets Group, Inc. (“OTC Link”) under the ticker symbol AMPW, because it has not filed any periodic reports since the period ended December 31, 2012. On October 22, 2014, the Division of Corporation Finance sent American Power a delinquency letter requesting compliance with their periodic filing obligations, but the letter was returned because of American Power's failure to maintain a valid address on file with the Commission, as required by Commission rules (Rule 301 of Regulation S-T, 17 CFR 232.301 and Section 5.4 of EDGAR Filer Manual).

It appears to the Securities and Exchange Commission that there is a lack of current and accurate information concerning the securities of Locan, Inc. (CIK No. 1431837), a delinquent Delaware corporation with its principal place of business listed as Bartlesville, Oklahoma, with stock quoted on OTC Link under the ticker symbol LOCN, because it has not filed any periodic reports since the period ended December 31, 2012. On October 27, 2014, Locan received a delinquency letter sent by the Division of Corporation Finance requesting compliance with their periodic filing obligations.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on October 30, 2015, through 11:59 p.m. EST on November 12, 2015.

By the Commission.
Jill M. Peterson,
Assistant Secretary.

[FR Doc. 2015-28065 Filed 10-30-15; 4:15 pm]

BILLING CODE 8011-01-P